DEPARTMENT OF TRANSPORTATION

Federal Aviation Administration

14 CFR Part 39

[Docket No. 2003-NE-38-AD]

RIN 2120-AA64

Airworthiness Directives; Rolls-Royce plc RB211 Trent 800 Series Turbofan Engines

AGENCY: Federal Aviation Administration (FAA), DOT.

ACTION: Notice of proposed rulemaking (NPRM).

SUMMARY: The FAA proposes to adopt a new airworthiness directive (AD) for Rolls-Royce plc (RR) models RB211 Trent 875-17, Trent 877-17, Trent 884-17, Trent 892-17, Trent 892B-17, and Trent 895-17 turbofan engines, with low pressure (LP) compressor fan blades part number (P/N) FW18548 installed. This proposed AD would require LP compressor fan blade replacement with new or previously reworked blades, or rework of the existing LP compressor fan blades. This proposed AD is prompted by a number of new production LP compressor fan blades found with surfaces formed outside of design intent. Findings included sharp edges, burrs, and damage present in the area at the top of the shear key slots. We are proposing this AD to prevent possible multiple uncontained LP compressor fan blade failure, due to cracking in the blade root caused by increased stresses in the shear key slots.

DATES: We must receive any comments on this proposed AD by December 22, 2003.

ADDRESSES: Use one of the following addresses to submit comments on this proposed AD:

• By mail: Federal Aviation Administration (FAA), New England Region, Office of the Regional Counsel, Attention: Rules Docket No. 2003-NE-38-AD, 12 New England Executive Park, Burlington, MA 01803-5299.

• By fax: (781) 238-7055.

• By e-mail: 9-ane-adcomment@faa.gov.

You can get the service information identified in this proposed AD from Rolls-Royce plc, PO Box 31, Derby, England, DE248BJ; telephone: 011-44-1332-242424; fax: 011-44-1332-245418.

You may examine the AD docket, by appointment, at the FAA, New England Region, Office of the Regional Counsel, 12 New England Executive Park, Burlington, MA.

FOR FURTHER INFORMATION CONTACT: James Lawrence, Aerospace Engineer, Engine Certification Office, FAA, Engine And Propeller Directorate, 12 New England Executive Park; Burlington, MA 01803-5299; telephone (781) 238-7176; fax (781) 238-7199.

SUPPLEMENTARY INFORMATION:

Comments Invited

We invite you to submit any written relevant data, views, or arguments regarding this proposal. Send your comments to an address listed under ADDRESSES. Include “AD Docket No. 2003-NE-38-AD” in the subject line of your comments. If you want us to acknowledge receipt of your mailed comments, send us a self-addressed, stamped postcard with the docket number written on it; we will date-stamp your postcard and mail it back to you. We specifically invite comments on the overall regulatory, economic, environmental, and energy aspects of the proposed AD. If a person contacts us verbally, and that contact relates to a substantive part of this proposed AD, we will summarize the contact and place the summary in the docket. We will consider all comments received by the closing date and may amend the proposed AD in light of those comments.

We are reviewing the writing style we currently use in regulatory documents. We are interested in your comments on whether the style of this document is clear, and your suggestions to improve the clarity of our communications that affect you. You may get more information about plain language at http://www.faa.gov/language and http://www.plainlanguage.gov.

Examining the AD Docket

You may examine the AD Docket (including any comments and service information), by appointment, between 8 a.m. and 4:30 p.m., Monday through Friday, except Federal holidays. See ADDRESSES for the location.

Discussion

The Civil Aviation Authority (CAA), which is the airworthiness authority for the United Kingdom (U.K.), recently notified the FAA that an unsafe condition may exist on Rolls-Royce plc RB211 Trent 800 series turbofan engines. The CAA advises that the results of a recent examination of a number of new production LP compressor fan blades, found surfaces in the area of the shear key slot and the junction of the blade root profile, to be formed outside of design intent. Findings included sharp edges, burrs, and damage present in the area at the top of the shear key slots. This can lead to cracking in the blade root, causing multiple uncontained LP compressor fan blade failure.

Relevant Service Information

We have reviewed and approved the technical contents of service bulletin No. RB.211-72-E044, Revision 1, dated May 2, 2003, that describes procedures for reworking LP compressor fan blades, P/N FW18548.

FAA's Determination and Requirements of the Proposed AD

These Rolls-Royce plc (RR) models RB211 Trent 875-17, Trent 877-17, Trent 884-17, Trent 892-17, Trent 892B-17, and Trent 895-17 turbofan engines, manufactured in the U.K., are type-certificated for operation in the United States under the provisions of section 21.29 of the Federal Aviation Regulations (14 CFR 21.29) and the applicable bilateral airworthiness agreement. Pursuant to this bilateral airworthiness agreement, the CAA has kept us informed of the situation described above. We have examined the CAA's findings, reviewed all available information, and determined that AD action is necessary for products of this type design that are certificated for operation in the United States. Therefore, we are proposing this AD, which would require, at or before the accumulation of certain cycles-since-new based on engine application, replacement of LP compressor fan blades, P/N FW18548, with new or previously reworked LP compressor fan blades, or rework of the existing blades.

Changes to 14 CFR Part 39—Effect on the Proposed AD

On July 10, 2002, we published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

There are about 350 RR models RB211 Trent 875-17, Trent 877-17, Trent 884-17, Trent 892-17, Trent 892B-17, and Trent 895-17 turbofan engines of the affected design in the worldwide fleet. We estimate that 106 engines installed on airplanes of U.S. registry would be affected by this proposed AD. We also estimate that it would take about 100 work hours per engine to perform blade rework, and that the average labor rate is $65 per work hour. Based on these figures, we estimate the total cost of the proposed AD to U.S. operators to be $689,000.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a summary of the costs to comply with this proposal and placed it in the AD Docket. You may get a copy of this summary by sending a request to us at the address listed under ADDRESSES. Include “AD Docket No. 2003-NE-38-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Rolls-Royce plc: Docket No. 2003-NE-38-AD.

Comments Due Date

(a) The FAA must receive comments on this airworthiness directive (AD) action by December 22, 2003.

Affected ADs

(b) None.

Applicability

(c) This AD applies to Rolls-Royce plc (RR) models RB211 Trent 875-17, Trent 877-17, Trent 884-17, Trent 892-17, Trent 892B-17, and Trent 895-17 turbofan engines, with low pressure (LP) compressor fan blades, part number (P/N) FW18548 installed. These engines are installed on, but not limited to, Boeing 777 series airplanes.

Unsafe Condition

(d) This AD was prompted by a number of new production LP compressor blades found with surfaces formed outside of design intent. Findings included sharp edges, burrs, and damage present in the area at the top of the shear key slots. We are issuing this AD to prevent possible multiple uncontained LP compressor fan blade failure, due to cracking in the blade root caused by increased stresses in the shear key slots.

Compliance

(e) You are responsible for having the actions required by this AD performed within the compliance times specified unless the actions have already been done.

Actions Required for LP Compressor Fan Blades

(f) Replace LP compressor fan blades with new or previously reworked LP compressor blades at or before accumulating the specified cycles in the following Table 1, or rework the existing blades as specified in paragraph (g) of this AD.

(g) Rework LP compressor fan blades at or before accumulating the specified cycles in the following Table 1. Follow paragraphs 3.A. through 3.B.(22) of Accomplishment Instructions of RR service bulletin (SB) No. RB.211-72-E044, Revision 1, dated May 2, 2003, to do the blade rework.

Table 1.—LP Compressor Fan Blade Replacement or Rework Schedule
For engines installed on: | Engine model: | Replace or rework LP compressor fan blades at or before accumulating:
(1) Boeing 777-300 | Trent 884-17 and Trent 892-17 | 2,400 cycles-since-new (CSN).
(2) Boeing 777-200IGW | (i) Trent 892-17 | 4,100 CSN.
| (ii) Trent 895-17 | 3,200 CSN.
(3) Boeing 777-200ER | Trent 892B-17 | 4,100 CSN.
(4) Boeing 777-200 | Trent 875-17, Trent 877-17, and Trent 884-17 | 4,100 CSN.

Alternative Methods of Compliance

(h) The Manager, Engine Certification Office, has the authority to approve alternative methods of compliance for this AD if requested using the procedures found in 14 CFR 39.19.

Material Incorporated by Reference

(i) You must use RR SB No. RB.211-72-E044, Revision 1, dated May 2, 2003, to perform the blade rework required by this AD.

Related Information

(j) CAA airworthiness directive 001-05-2003, dated June 20, 2003, also addresses the subject of this AD, and RR SB No. RB.211-72-E055, Revision 1, dated June 20, 2003, pertains to the subject of this AD.

Issued in Burlington, Massachusetts, on October 16, 2003.
Jay J. Pardee,
Manager, Engine and Propeller Directorate, Aircraft Certification Service.

[FR Doc. 03-26720 Filed 10-22-03; 8:45 am]

BILLING CODE 4910-13-P